DEPARTMENT OF COMMERCE

International Trade Administration

[A-201-805]

Certain Circular Welded Non-Alloy Steel Pipe From Mexico: Rescission of Antidumping Duty Administrative Review; 2016-2017

AGENCY: Enforcement and Compliance, International Trade Administration, Department of Commerce.

SUMMARY: The Department of Commerce (Commerce) is rescinding its administrative review of the antidumping duty order on certain circular welded non-alloy steel pipe from Mexico for the period of review (POR) November 1, 2016, through October 31, 2017.

DATES: Applicable October 26, 2018.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On November 1, 2017, Commerce published in the Federal Register a notice of opportunity to request an administrative review of the antidumping duty order ¹ on certain circular welded non-alloy steel pipe from Mexico for the POR.² Commerce received a timely request from Wheatland Tube (the petitioner), in accordance with section 751(a) of the Tariff Act of 1930, as amended (the Act), and 19 CFR 351.213(b), to conduct an administrative review of this antidumping duty order with respect to 25 companies.³ No other party submitted a request for administrative review.

¹ See Notice of Antidumping Duty Orders: Certain Circular Welded Non-Alloy Steel Pipe from Brazil, the Republic of Korea (Korea), Mexico, and Venezuela and Amendment to Final Determination of Sales at Less Than Fair Value: Certain Welded Non-Alloy Steel Pipe from Korea, 57 FR 49453 (November 2, 1992) (the Order).

² See Antidumping or Countervailing Duty Order, Finding, or Suspended Investigation; Opportunity to Request Administrative Review, 82 FR 50260 (November 1, 2017).

³ See Petitioner Letter re: Certain Circular Welded Non-Alloy Steel Pipe from Mexico: Request for Administrative Review, dated November 30, 2017.

On January 11, 2018, Commerce published in the Federal Register a notice of initiation with respect to 25 companies.⁴ Commerce stated in its initiation of this review that it intended to rely on U.S. Customs and Border Protection (CBP) data to select respondents.⁵ However, our review of the CBP data, with respect to the companies for which reviews were requested, showed no entries of certain circular welded non-alloy steel pipe originating in Mexico which were subject to antidumping (AD) duties during the POR.⁶

⁴ See Initiation of Antidumping and Countervailing Duty Administrative Reviews, 83 FR 1329 (January 11, 2018) (Initiation Notice), at 1330-1331. The 25 companies listed were: Acerorey; Arcelormittal Monterrey; Arco Metal; Fischer Mexicana; Forza Steel; Mach 1 Aero Servicios S De RL De Cv; Nacional De Acero; Nova Steel; Perfiles Y Herrajes; Precitubo; Procarsa; Productos Especializados De Acero; Productos Laminados de Monterrey, S.A. de C.V.; PYTCO, S.A. de C.V.; Regiomontana de Perfiles y Tubos, S.A. de C.V.; Rymco Conduit S.A. De C.V.; Swecomex S.A. De C.V.; Ternium Tuberia; Tubac; Tubacero; Tuberia Laguna; Tubesa; Tubos Omega; Tumex; and Villacero Tuna.

⁵ See Initiation Notice, 83 FR at 1329.

⁶ See Memorandum: “Certain Circular Welded Non-Alloy Steel Pipe from Mexico, 2016-2017 Administrative Review: Placement of Customs and Border Protection (CBP) Information on the Record of this Administrative Review,” dated February 15, 2018 (CBP Information Memorandum).

Between January 17, 2018, and February 12, 2018, Tubacero S. de R.L. de C.V. (“Tubacero”); Lamina y Placa Comercial, S.A. de C.V. (“LYPCSA”) and its affiliate Tuberia Nacional, S.A. de C.V. (“TUNA”); ⁷ Regiomontana de Perfiles y Tubos S.A. de C.V. (“Regiopytsa”) and its affiliate Pytco, S.A. de C.V. (“Pytco”); ⁸ and Mach 1 Global Services, Inc. and its affiliate Mach 1 Aero Servicios S De RL de CV each timely submitted a certification of no shipments.⁹ On February 15, 2018, we placed on the record the results of our query of the CBP database and invited comment from interested parties.¹⁰ We received no comments.

⁷ See Villacero Tuna Letter re: Circular Welded Non-Alloy Steel Pipe and Tube from Mexico: Notice of No Sales, dated January 26, 2018.

⁸ See Regiopytsa/Pytco Letter re: Circular Welded Non-Alloy Steel Pipe from Mexico: No Shipment Notification, dated February 1, 2018. Commerce has collapsed Regiopytsa and Pytco in past segments of this proceeding. See, e.g., Certain Circular Welded Non-Alloy Steel Pipe from Mexico: Final Results of Antidumping Duty Administrative Review and Final Determination of No Shipments; 2014-2015, 82 FR 27039 (June 13, 2017), at 27040.

⁹ See Mach 1 Letter re: Certain Circular Welded Non-Alloy Steel Pipes and Tubes: Notice of no Exports, Sales, or Entries, dated February 12, 2018.

¹⁰ See Memorandum: “Certain Circular Welded Non-Alloy Steel Pipe from Mexico, 2016-2017 Administrative Review: Placement of Customs and Border Protection (CBP) Information on the Record of this Administrative Review,” dated February 15, 2018 (CBP Information Memorandum).

In accordance with our standard practice, we transmitted port inquiry messages to CBP requesting that any CBP import officer with information contrary to the statements of no shipments submitted by Lamina y Placa, TUNA, Tubacero, Villacero Tuna, Regiopytsa, Pytco, or Mach 1 report that information to Commerce.¹¹ We received no information from CBP contrary to the statements of no shipments from Lamina y Placa, TUNA, Tubacero, Villacero Tuna, Pytco, or Mach 1. In addition, we received no comment from any party with regard to these port inquiry messages.

¹¹ See re: No shipments inquiry for certain circular welded non-alloy steel pipe from Mexico produced and/or exported by Mach 1 Aero Servicios S De RL De Cv (A-201-805), message number 8064304, dated March 5, 2018; see also re: No shipments inquiry for certain circular welded non-alloy steel pipe from Mexico produced and/or exported by PYTCO, S.A. de C.V. (A-201-805), message number 8064305, dated March 5, 2018; see also re: No shipments inquiry for certain circular welded non-alloy steel pipe from Mexico produced and/or exported by Regiomontana de Perfiles y Tubos S.A. de C.V. (A-201-805), message number 8064308, dated March 5, 2018; see also re: No shipments inquiry for certain circular welded non-alloy steel pipe from Mexico produced and/or exported by Villacero Tuna (A-201-805), message number 8064307, dated March 5, 2018.

On March 20, 2018, we placed on the record the CBP response to our port inquiry message for Regiopytsa, which showed certain entries, and invited comment from interested parties.¹² We received no comments. Consequent to the CBP response to our port inquiry message for Regiopytsa, we requested the entry documents for the entries in question. On May 15, 2018, we placed the entry documents we received from CBP on the record, inviting interested parties to submit rebuttal factual information.¹³ On May 29, 2018, Regiopytsa submitted rebuttal factual information and contended that the entries in question did not constitute subject merchandise.¹⁴ Specifically, Regiopytsa submitted a copy of Commerce's 2016 Regiopytsa Scope Ruling,¹⁵ and noted that the products in question had already been determined to be not within the scope of the Order.¹⁶ Moreover, Regiopytsa stated that it subsequently revised the categorization of these entries with CBP.¹⁷ We confirmed this revision of categorization with CBP. No party commented upon Regiopytsa's rebuttal factual information submission.

¹² See Memorandum: “Certain Circular Welded Non-Alloy Steel Pipe from Mexico, 2016-2017 Administrative Review: Placement of Customs and Border Protection (CBP) Response to Port Inquiry on the Record of this Administrative Review,” dated March 20, 2018.

¹³ See Memorandum: “Certain Circular Welded Non-Alloy Steel Pipe from Mexico, 2016-2017 Administrative Review: Placement of Customs and Border Protection (CBP) Entry Documents on the Record of this Administrative Review,” dated May 15, 2018.

¹⁴ See Regiopytsa Letter re: Circular Welded Non-Alloy Steel Pipe from Mexico, Rebuttal Factual Information, dated May 29, 2018 (Regiopytsa's rebuttal factual information submission).

¹⁵ See Memorandum: “Final Scope Ruling on Certain Black, Circular Tubing Produced to ASTM A-513 Specifications by Regiomontana de Perfiles y Tubos S.A. de C.V.,” dated March 31, 2016 (Regiopytsa Scope Ruling), placed on the record of this administrative review as Exhibit 3 of Regiopytsa's rebuttal factual information submission.

¹⁶ See Notice of Antidumping Duty Orders: Certain Circular Welded Non-Alloy Steel Pipe from Brazil, the Republic of Korea (Korea), Mexico, and Venezuela and Amendment to Final Determination of Sales at Less Than Fair Value: Certain Welded Non-Alloy Steel Pipe from Korea, 57 FR 49453 (November 2, 1992) (the Order).

¹⁷ See Regiopytsa's rebuttal factual information submission, at 1 and Exhibit 1.

We subsequently transmitted additional port inquiry messages to CBP requesting that any CBP import officer with information of entries by the remaining 21 companies under review ¹⁸ report that information to Commerce.¹⁹ We received no such information from CBP. We received no comment from any party with regard to these port inquiry messages.

¹⁸ The 21 remaining companies under review for which we sent this second set of port inquiry messages were: Acerorey; Arcelormittal Monterrey; Arco Metal; Fischer Mexicana; Forza Steel; Nacional De Acero; Nova Steel; Perfiles Y Herrajes; Precitubo; Procarsa; Productos Especializados De Acero; Productos Laminados de Monterrey, S.A. de C.V.; Rymco Conduit S.A. De C.V.; Swecomex S.A. De C.V.; Ternium Tuberia; Tubac; Tubacero; Tuberia Laguna; Tubesa; Tubos Omega; and Tumex.

¹⁹ See re: No shipments inquiry for certain circular welded non-alloy steel pipe from Mexico produced and/or exported by Acerorey (A-201-805), message number 8212314, dated July 31, 2018; see also re: No shipments inquiry for certain circular welded non-alloy steel pipe from Mexico produced and/or exported by Arcelormittal Monterrey (A-201-805), message number 8212315, dated July 31, 2018; see also re: No shipments inquiry for certain circular welded non-alloy steel pipe from Mexico produced and/or exported by Arco Metal (A-201-805), message number 8212316, dated July 31, 2018; see also re: No shipments inquiry for certain circular welded non-alloy steel pipe from Mexico produced and/or exported by Fischer Mexicana (A-201-805), message number 8212317, dated July 31, 2018; see also re: No shipments inquiry for certain circular welded non-alloy steel pipe from Mexico produced and/or exported by Forza Steel (A-201-805), message number 8212318, dated July 31, 2018; see also re: No shipments inquiry for certain circular welded non-alloy steel pipe from Mexico produced and/or exported by Nacional De Acero (A-201-805), message number 8212319, dated July 31, 2018; see also re: No shipments inquiry for certain circular welded non-alloy steel pipe from Mexico produced and/or exported by Nova Steel (A-201-805), message number 8212320, dated July 31, 2018; see also re: No shipments inquiry for certain circular welded non-alloy steel pipe from Mexico produced and/or exported by Perfiles Y Herrajes (A-201-805), message number 8212321, dated July 31, 2018; see also re: No shipments inquiry for certain circular welded non-alloy steel pipe from Mexico produced and/or exported by Precitubo (A-201-805), message number 8212307, dated July 31, 2018; see also re: No shipments inquiry for certain circular welded non-alloy steel pipe from Mexico produced and/or exported by Procarsa (A-201-805), message number 8212322, dated July 31, 2018; see also re: No shipments inquiry for certain circular welded non-alloy steel pipe from Mexico produced and/or exported by Productos Especializados De Acero (A-201-805), message number 8212323, dated July 31, 2018; see also re: No shipments inquiry for certain circular welded non-alloy steel pipe from Mexico produced and/or exported by Productos Laminados de Monterrey, S.A. de C.V. (A-201-805), message number 8212324, dated July 31, 2018; see also re: No shipments inquiry for certain circular welded non-alloy steel pipe from Mexico produced and/or exported by Rymco Conduit S.A. De C.V. (A-201-805), message number 8212325, dated July 31, 2018; see also re: No shipments inquiry for certain circular welded non-alloy steel pipe from Mexico produced and/or exported by Swecomex S.A. De C.V. (A-201-805), message number 8212326, dated July 31, 2018; see also re: No shipments inquiry for certain circular welded non-alloy steel pipe from Mexico produced and/or exported by Ternium Tuberia (A-201-805), message number 8212327, dated July 31, 2018; see also re: No shipments inquiry for certain circular welded non-alloy steel pipe from Mexico produced and/or exported by Tubac (A-201-805), message number 8212328, dated July 31, 2018; see also re: No shipments inquiry for certain circular welded non-alloy steel pipe from Mexico produced and/or exported by Tubacero (A-201-805), message number 8212329, dated July 31, 2018; see also re: No shipments inquiry for certain circular welded non-alloy steel pipe from Mexico produced and/or exported by Tuberia Laguna (A-201-805), message number 8212331, dated July 31, 2018; see also re: No shipments inquiry for certain circular welded non-alloy steel pipe from Mexico produced and/or exported by Tubesa (A-201-805), message number 8212330, dated July 31, 2018; see also re: No shipments inquiry for certain circular welded non-alloy steel pipe from Mexico produced and/or exported by Tubos Omega (A-201-805), message number 8212332, dated July 31, 2018; see also re: No shipments inquiry for certain circular welded non-alloy steel pipe from Mexico produced and/or exported by Tumex (A-201-805), message number 8212333, dated July 31, 2018.

On August 29, 2018, we issued a memorandum stating that, because the CBP data showed that there are no suspended entries of subject merchandise from any of the companies subject to this review upon which to assess duties, we intended to rescind this review.²⁰ We invited parties to comment on this memorandum, but did not receive any comments.

²⁰ See Memorandum: “Certain Circular Welded Non-Alloy Steel Pipe from Mexico: Intent to Rescind 2016-2017 Administrative Review,” dated August 29, 2018.

Rescission of Administrative Review

It is Commerce's practice to rescind an administrative review pursuant to 19 CFR 351.213(d)(3) when there are no entries of subject merchandise during the POR subject to AD/CVD duties and for which liquidation is suspended.²¹ At the end of the administrative review, the suspended entries are liquidated at the assessment rate computed for the review period.²² Therefore, for an administrative review to be conducted, there must be a reviewable, suspended entry to be liquidated at the newly calculated assessment rate. Because the CBP data showed that there are no suspended entries of subject merchandise from any of the companies subject to this review upon which to assess duties, we are rescinding this review of the antidumping duty order on certain circular welded non-alloy steel pipe from Mexico for the period of review (POR) November 1, 2016, through October 31, 2017, in its entirety, pursuant to 19 CFR 351.213(d)(3).

²¹ See, e.g., Certain Preserved Mushrooms from India: Notice of Rescission of Antidumping Duty Administrative Review, 79 FR 52300 (September 3, 2014); see also Certain Frozen Warmwater Shrimp from Brazil: Notice of Rescission of Antidumping Duty Administrative Review; 2012-2013, 78 FR 30272 (May 22, 2013); see also Solid Fertilizer Grade Ammonium Nitrate from the Russian Federation: Notice of Rescission of Antidumping Duty Administrative Review, 77 FR 65532 (October 29, 2012); see also Certain Hot-Rolled Carbon Steel Flat Products from India: Final Results of Antidumping Duty Administrative Review, 76 FR 42679 (July 19, 2011); see also Certain Cut-to-Length Carbon-Quality Steel Plate Products from Italy: Final Results and Partial Rescission of Antidumping Duty Administrative Review, 71 FR 39299, 39302 (July 12, 2006). Commerce's practice of rescinding annual reviews when there are no entries of subject merchandise during the POR has been upheld by the Court of Appeals for the Federal Circuit, see Allegheny Ludlum Com. v. United States, 346 F.3d 1368 (Fed. Cir. 2003).

²² See 19 CFR 351.212(b)(1); see also section 751(a)(2)(A) of the Act.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i)(1) of the Act, and 19 CFR 351.213(d)(4).

Dated: October 22, 2018.
James Maeder,
Associate Deputy Assistant Secretary for Antidumping and Countervailing Duty Operations, performing the duties of Deputy Assistant Secretary for Antidumping and Countervailing Duty Operations.

[FR Doc. 2018-23454 Filed 10-25-18; 8:45 am]

BILLING CODE 3510-DS-P